LIBRARY OF CONGRESS

Copyright Royalty Board

37 CFR Part 381

[Docket No. 2011-2 CRB NCEB II]

Determination of Reasonable Rates and Terms for Noncommercial Broadcasting

Correction

In proposed rule document 2012-15538, appearing on pages 38022-38024, in the issue of Tuesday, June 26, 2012, make the following correction:

§ 381.8 [Corrected]

1. On page 38023, column three, § 381.8 is being reprinted in its entirety for corrections to (b)(1)(i) and (ii).

§ 381.8 Terms and rates of royalty payments for the use of published pictorial, graphic, and sculptural works.

* * * * *

(b) Royalty rate. (1) The following schedule of rates shall apply to the use of works within the scope of this section:

(i) For such uses in a PBS-distributed program:

| 2013-2017
(A) For featured display of a work | $70.75
(B) For background and montage display | 34.50
(C) For use of a work for program identification or for thematic use | 139.46
(D) For the display of an art reproduction copyrighted separately from the work of fine art from which the work was reproduced irrespective of whether the reproduced work of fine art is copyrighted so as to be subject also to payment of a display fee under the terms of the schedule | 45.82

(ii) For such uses in other than PBS-distributed programs:

| 2013-2017
(A) For featured display of a work | $45.82
(B) For background and montage display | 23.48
(C) For use of a work for program identification or for thematic use | 93.65
(D) For the display of an art reproduction copyrighted separately from the work of fine art from which the work was reproduced irrespective of whether the reproduced work of fine art is copyrighted so as to be subject also to payment of a display fee under the terms of the schedule | 23.49

* * * * *

[FR Doc. C1-2012-15538 Filed 6-28-12; 8:45 am]

BILLING CODE 1505-01-D